DEPARTMENT OF HEALTH AND HUMAN SERVICES

Administration for Children and Families

Proposed Information Collection Activity; Comment Request

Proposed Projects

Title: Office of Community Services (OCS) Evaluation Initiative: Community Economic Development (CED) and Job Opportunities for Low-Income (JOLI) Individuals.

OMB Control No. 0907-0317.

Description: The Office of Community Services (OCS) is a component of the Administration for Children and Families (ACF), which is part of the U.S. Department of Health and Human Services (HHS). Part of OCS' responsibilities is the program administration of Federal grants awarded through an annual competitive process to support urban and rural community economic development projects carried out by local, non-profit, community-based organizations. OCS is collecting key program information about the CED and the JOLI projects in the United States. The legislative requirement for these two programs is in Title IV of the Community Opportunities, Accountability and Training and Educational Services Act (COATES Human Services Reauthorization Act) of October 27, 1998, Pub. L. 105-285, section 680(b) as amended. The information collection questionnaire will gather significant updated information concerning program outcomes and management. OCS will use the data to critically review and improve the overall design and effectiveness of each program.

Respondents: OCS Grantees.

Annual Burden Estimates
Instrument | Number of respondents | Number of responses per respondent | Average burden hours per response | Total burden hours
Questionnaire for OCS-CED Grantees in the United States | 147 | 1 | 1.5 | 220.5
Questionnaire for OCS-JOLI Grantees in the United States | 25 | 1 | 1.5 | 37.5

Estimated Total Annual Burden Hours: 258.

In compliance with the requirements of section 3506(c)(2)(A) of the Paperwork Reduction Act of 1995, the Administration for Children and Families is soliciting public comment on the specific aspects of the information collection described above. Copies of the proposed collection of information can be obtained and comments may be forwarded by writing to the Administration for Children and Families, Office of Administration, Office of Information Services, 370 L'Enfant Promenade, SW., Washington, DC 20447, Attn: ACF Reports Clearance Officer. E-mail address: infocollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: November 6, 2007.
Robert Sargis,
Reports Clearance Officer.

[FR Doc. 07-5609 Filed 11-9-07; 8:45 am]

BILLING CODE 4184-01-M